GENERAL SERVICES ADMINISTRATION

41 CFR Part 301-11

[FTR Amendment 2009-04; FTR Case 2009-304; Docket Number 2009-0001, Sequence 4]

RIN 3090-AI89

Federal Travel Regulation (FTR); M&IE Allowance

AGENCY: Office of Governmentwide Policy, General Services Administration (GSA).

ACTION: Final rule.

SUMMARY: The General Services Administration (GSA) is amending the Federal Travel Regulation in regards to the meals and incidental expenses (M&IE) allowance that an employee is entitled to when travel is for more than 12 hours but less than 24 hours.

DATES: Effective date: This final rule is effective May 11, 2009. Applicability date: This final rule is applicable to travel performed on and after May 11, 2009.

FOR FURTHER INFORMATION CONTACT: The Regulatory Secretariat (VPR), Room 4041, GS Building, Washington, DC, 20405, (202) 501-4755, for information pertaining to status or publication schedules. For clarification of content, contact Ms. Cheryl D. McClain, Office of Governmentwide Policy, at (202) 208-4334 or e-mail at cheryl.mcclain@gsa.gov. Please cite FTR Amendment 2009-04; FTR case 2009-303.

SUPPLEMENTARY INFORMATION:

A. Background

The GSA's Office of Governmentwide Policy (OGP) has discovered inconsistency among agencies regarding the calculation of the M&IE rate when an employee's travel is for more than 12 hours but less than 24 hours, and spans two calendar days.

This final rule clarifies that travelers are to be reimbursed 75 percent of the applicable M&IE rate for both calendar days of travel.

B. Executive Order 12866

This is not a significant regulatory action, and therefore, was not subject to review under Section 6(b) of Executive Order 12866, Regulatory Planning and Review, dated September 30, 1993. This final rule is not a major rule under 5 U.S.C. 804.

C. Regulatory Flexibility Act

This final rule is not required to be published in the Federal Register for notice and comment, therefore the Regulatory Flexibility Act, 5 U.S.C. 601, et seq., does not apply.

D. Paperwork Reduction Act

The Paperwork Reduction Act does not apply because the final changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates to agency management and personnel.

List of Subjects in 41 CFR Part 301-11

Government employees, Travel and transportation expenses.

Dated: March 17, 2009.
Paul F. Prouty,
Acting Administrator of General Services.

For the reasons set forth in the preamble, under 5 U.S.C. 5701-5709, GSA amends 41 CFR part 301-11 as set forth below:

PART 301-11—PER DIEM EXPENSES

1. The authority citation for 41 CFR part 301-11 continues to read as follows:

Authority: 5 U.S.C. 5707.

2. Amend § 301-11.101, paragraph (a), in the table, by revising the first entry to read as follows:

§ 301-11.101 What allowance will I be paid for M&IE?

(a) * * *

When travel is— | Your allowance is—
| * * * * *
More than 12 but less than 24 hours | 75 percent of the applicable M&IE rate for each calendar day you are in a travel status.
| * * * * *

[FR Doc. E9-8160 Filed 4-9-09; 8:45 am]

BILLING CODE 6820-14-P